DEPARTMENT OF AGRICULTURE

Forest Service

Revision of Land Management Plan, Grand Mesa, Uncompahgre and Gunnison National Forests, Located In West-Central Colorado

AGENCY: Forest Service, USDA.

ACTION: Notice.

SUMMARY: The Grand Mesa, Uncompahgre, and Gunnison National Forests (GMUG) will exercise its option to adjust its land management plan revision process from compliance with the 1982 planning regulations, to conformance with new planning regulations adopted in January 2005. This adjustment will have the following effects:

1. The new rule redefines forest plans to be more strategic and flexible to better facilitate adaptive management and public collaboration.

2. The new rule focuses more on the goals of ecological, social, and economic sustainability and less on prescriptive means of producing goods and services.

3. The Responsible Official who will approve the final plan will now be the Forest Supervisor instead of the Regional Forester.

4. The GMUG will establish an environmental management system (per ISO 14001:2004(E)) prior to completion of the revised forest plan.

5. Upon completion of final rulemaking, the planning and decision-making process may be categorically excluded from analysis and documentation in an environmental impact statement and record of decision (see draft rule at 70 FR 1062, January 5, 2005.

6. The emphasis on public involvement will shift from public comment on a range of alternative plans, to an iterative public-Forest Service collaboration process intended to yield a single broadly supported plan.

7. Administrative review has changed from a post-decision appeals process to a pre-decision objection process.

Public Involvement: There has been a great deal of public participation and collaborative work on this planning process over the past few years, including more than 60 public meetings. Results of this work and a detailed proposed action are available for review and comment. Current information and details of upcoming public participation opportunities are posted on our Web site: http://www.fs.fed.us/r2/gmug/policy/plan_rev/.Contact Anne Janik at (970) 874-6637, or e-mail at, ajanik@fs.fed.us to be placed on our mailing list.

ADDRESSES: Physical location: GMUG Forest Planning, 2250 Highway 50, Delta CO, 81416; or by e-mail: r2_GMUG_planning@fs.fed.us.

FOR FURTHER INFORMATION CONTACT: Gary Shellhorn, Analysis Team Leader, GMUG National Forest, (970) 874-6666 or e-mail: gshellhorn@fs.fed.us; or view our Web site at http://www.fs.fed.us/r2/gmug/policy/plan_rev/.

DATES: Transition is effective immediately upon publication of this notice in the Federal Register.

Responsible Official: Charles S. Richmond, Forest Supervisor, Grand Mesa, Uncompahgre, and Gunnison National Forest, 2250 Highway 50, Delta CO, 81416.

SUPPLEMENTARY INFORMATION: The Grand Mesa, Uncompahgre, and Gunnison National Forests (GMUG) are managed as a single administrative unit. In September of 1999, the GMUG formally initiated its land management plan revision process with publication of a notice of intent to prepare and environmental impact statement for plan revision (64 FR 52266, September 28, 1999). After the initiation, several delays were experienced due to budget and administrative matters. When plan revision began in earnest in 2002, the GMUG began an extensive “pre-NEPA” public participation and collaboration process. In addition, the planning team has been working on comprehensive geographic area analyses of conditions and trends for the ecological, social and economic components of the plan area.

The first phase of public participation was focused primarily on development of “vision” statements, desired conditions, management issues, and suitable land uses to be incorporated into the preliminary proposed action. Over forty community meetings were conducted in this effort. During the second phase, the planning team met with the public to review the content of the preliminary proposal and to get feedback as to its desirability and feasibility. Also during the second phase, we displayed the draft findings of the comprehensive analyses of ecological, social, and economic conditions. We are still accepting comments on the preliminary proposed action and the analyses. We are using these comments to modify the plan proposal through an iterative process of public participation and adjustment. The planning team will be taking additional collaborative steps to finish the draft plan components and to identify potential options. Remaining work includes formulation of plan objectives (projections of measurable, time-specific actions toward achieving or maintaining desired conditions), guidelines (information and guidance for projects), monitoring program, and environmental management system.

This is an open planning process with numerous opportunities for the public to obtain information, provide comment, or participate in collaborative stakeholder activities. Options for the public include any of the following methods: (1) Reviewing and commenting on the preliminary proposed action, analysis results, and supporting maps posted on our website, (2) attending open house meetings, (3) requesting planning team presentations to specific groups, (4) newsletters, (5) participating in callaborative dialogue in-topic working groups, or (6) providing input during formal comment periods.

The focal points of the future collaborative work will be: (1) Review and adjustment of the preliminary proposed action (desired conditions and suitability of land areas for various purposes) and identification of options, (2) development of management objectives to assist in attaining or maintaining desired conditions, (3) formulation of guidelines to serve as operational controls to help ensure projects move toward or maintain desired conditions, and (4) development of the plan monitoring framework and environmental management system to guide adaptive management. We expect to complete this phase of collaboration by early Fall 2005. Our remaining forest plan revision schedule will be approximately as follows:

Release of Draft Forest Plan and start of 90-day public comment period—Fall 2005.

Release of Final Plans and start of 30-day objection period—Summer 2006.

Final decision and start of plan implementation—Fall 2006.

Please see our Web site to review draft revised plan components in progress and other details.

Dated: May 20, 2005.
Charles S. Richmond,
Forest Supervisor, Grand Mesa, Uncompahgre, and Gunnison National Forests.

[FR Doc. 05-10396 Filed 5-24-05; 8:45 am]

BILLING CODE 3410-ES-M